DEPARTMENT OF HEALTH AND HUMAN SERVICES

Agency for Toxic Substances and Disease Registry

[ATSDR-234]

Public Health Assessments and Health Consultations Completed; April 2007-June 2007

AGENCY: Agency for Toxic Substances and Disease Registry (ATSDR), Department of Health and Human Services (HHS).

ACTION: Notice.

SUMMARY: This notice announces those sites for which ATSDR has completed public health assessments and health consultations during the period from April 1, 2007, through June 30, 2007. This list includes sites that are on or proposed for inclusion on the National Priorities List (NPL) and includes sites for which assessments or consultations were prepared in response to requests from the public.

FOR FURTHER INFORMATION CONTACT: William Cibulas, Jr., Ph.D., Director, Division of Health Assessment and Consultation, Agency for Toxic Substances and Disease Registry, 1600 Clifton Road, NE., Mailstop E-32, Atlanta, Georgia 30333, telephone (404) 498-0007.

SUPPLEMENTARY INFORMATION: The most recent list of completed public health assessments and health consultations was published in the Federal Register on May 8, 2007 [72 FR 26119]. This announcement is the responsibility of ATSDR under the regulation “Public Health Assessments and Health Effects Studies of Hazardous Substances Releases and Facilities” [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and health consultations are available for public inspection at the ATSDR Records Center, 1825 Century Boulevard, Atlanta, Georgia (not a mailing address), between 8 a.m. and 4:30 p.m., Monday through Friday except legal holidays. Public health assessments and health consultations are often available for public review at local repositories such as libraries in corresponding areas. Many public health assessments and health consultations are available through ATSDR's Web site at http://www.atsdr.cdc.gov/hac/PHA/index.asp. In addition, the completed public health assessments are available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between April 1, 2007, and June 30, 2007, public health assessments were issued for the sites listed below:

NPL and Proposed NPL Sites

New York

Peninsula Boulevard Groundwater Plume—(PB2007-107915); April 24, 2007.

North Carolina

Blue Ridge Plating Company Site—Evaluation of Surface Soil, Dry Sediment, and Surface Water Data—(PB2007-109821); May 18, 2007.

Utah

Bountiful/Woods Cross 5th PCE Plume—(PB2007-107912); April 18, 2007.

West Virginia

Allegany Ballistics Laboratory—(PB2007-111686); May 21, 2007.

Non-NPL Petitioned Sites

Alaska

Galena Airport (a/k/a USAF Galena Air Force Station)—(PB2007-109917); May 21, 2007.

New Jersey

Mercer Rubber Company Site—(PB2007-107914); April 25, 2007.

Oregon

Red Rock Road—(PB2007-109919); May 30, 2007.

Health Consultations Completed or Issued

Between April 1, 2007, and June 30, 2007, health consultations were issued for the sites listed below:

Alaska

Interior Alaska Indoor Shooting Range; June 18, 2007.

Arizona

Arsenic Exposure from Private Drinking Water Wells; April 16, 2007.

Arkansas

County Road (CR)—109—Pesticide Contamination of Groundwater in Mississippi County Well #3; May 16, 2007.

California

A1-Lube Division of Far Best Corporation Facility; May 4, 2007.

Evaluation of Hydrogen Sulfide Migration at Twin Lakes Beach and Adjacent to the Santa Cruz Harbor; June 6, 2007.

Former California Zonolite/W.R. Grace & Company Site; June 11, 2007.

Germain's Seed Company; May 11, 2007.

Colorado

Crown Market—Public Health Implications of Indoor Air Residential Exposures via Vapor Intrusion and Outdoor Occupational Exposures via Soil Vapor—Evaluation of Former Leaking Underground Storage Tanks at Crown Market; June 12, 2007.

Schlage Lock Company—Analysis of Untreated Residential Ground

Water Wells in the Widefield Aquifer; April 4, 2007.

Schlage Lock Company—Evaluation of Current and Future Fish Consumption from Willow Springs Pond; May 1, 2007.

Florida

1529 West LaSalle Street Site Property; April 3, 2007.

Evaluation of Fish from St. Joe Bay—Exposure Investigation; May 15, 2007.

West LaSalle Street Site—Indoor Air Testing—Exposure Investigation Report; May 11, 2007.

Illinois

Adept Tool and Machine Company, Site 121; May 4, 2007.

Minerva Mine #1; May 4, 2007.

Iowa

Chicago Milwaukee and St. Paul Rail Yard Targeted Brownfields Assessment; May 31, 2007.

Kansas

Soil Data Review for the Former Neodesha Refinery Site and Nearby Properties; June 25, 2007.

Minnesota

University of Minnesota Stadium—Thermal Treatment of Creosote-Containing Soils; June 13, 2007.

Mississippi

Dupont Delisle Plant (a/k/a Dupont E. I. De Nemours and Company, Incorporated)—Exposure Investigation Report; April 4, 2007.

New Hampshire

8-10 Railroad Avenue; June 18, 2007.

All American Barber Shop; June 20, 2007.

Landmark Apartments; May 3, 2007.

The Costume Gallery; June 20, 2007.

New Jersey

Analysis of Cancer Incidence Near the Former Mercer Rubber Company Site; April 25, 2007.

Kiddie Kollege—Mercury Exposure Investigation Using Serial Urine Testing and Medical Records Review; June 13, 2007.

Sal's Auto Repair; April 4, 2007.

Topps Cleaners Site—Public Health Implications and Interpretation of Tetrachloroethylene (PCE) Exposure in Indoor Air; April 4, 2007.

New Mexico

Grants Chlorinated Solvents Plume Site; April 10, 2007.

New York

Great Kills Park—Gateway National Recreation Area; May 31, 2007.

Ohio

Laugh and Learn Daycare; June 18, 2007.

Washington County Air Quality; June 18, 2007.

Oregon

North Morrow Perchlorate Area—Exposure Investigation Report; April 18, 2007.

Pennsylvania

Crown Industries Site; June 12, 2007.

Langner Enterprises Site (Residential Wells); June 14, 2007.

Tennessee

Hardeman County Landfill (a/k/a Velsicol Chemical Corporation); April 16, 2007.

Pesticide Contamination in a Home; April 19, 2007.

Utah

An Investigation of Cancer Incidence in Census Tracts—1251.03, 1251.04, 1258.04, 1258.05, 1258.06, 1259.04, 1259.05, and 1259.06, 1978-2001; June 15, 2007.

Washington

Evaluation of Selected Metals in Geoduck Tissue from Tracts 09950 and 10400; April 18, 2007.

Progress Elementary School—Evaluation of Soil Contamination; June 21, 2007.

West Virginia

Holder Chemical Corporation—Exposure to Chemicals in Groundwater; June 14, 2007.

Krouts Creek Site—Vapor Intrusion; June 14, 2007.

Nitro School Dioxin Site—Dioxin in Dust in Schools and Community Center; April 18, 2007.

Wisconsin

Primary School Campus of St. Katharine Drexel School—Vapor Intrusion at a School; June 20, 2007.

Dated: August 15, 2007.
Kenneth Rose,
Director, Office of Policy, Planning, and Evaluation, National Center for Environmental Health/Agency for Toxic Substances and Disease Registry.

[FR Doc. E7-16548 Filed 8-21-07; 8:45 am]

BILLING CODE 4163-70-P